DEPARTMENT OF ENERGY

Federal Energy Regulatory Commission

Combined Notice of Filings

Take notice that the Commission has received the following Natural Gas Pipeline Rate and Refund Report filings:

Filings Instituting Proceedings

Docket Numbers: RP22-1105-000.

Applicants: Anadarko US Offshore LLC, Murphy Exploration & Production Company—USA, Eni Petroleum US LLC, INPEX Americas, Inc.

Description: Joint Request of Anadarko U.S. Offshore LLC, et al. for Extension of Limited Waiver et al.

Filed Date: 2/13/23.

Accession Number: 20230213-5200.

Comment Date: 5 p.m. ET 2/27/23.

Docket Numbers: RP23-429-000.

Applicants: Sabal Trail Transmission, LLC.

Description: § 4(d) Rate Filing: STT Address Change Filing to be effective 8/1/2023.

Filed Date: 2/6/23.

Accession Number: 20230206-5072.

Comment Date: 5 p.m. ET 2/21/23.

Docket Numbers: RP23-438-000.

Applicants: Northern Natural Gas Company.

Description: Northern Natural Gas submits report of the penalty and daily delivery variance charge (DDVC) revenues that have been credited to shippers.

Filed Date: 2/13/23.

Accession Number: 20230213-5084.

Comment Date: 5 p.m. ET 2/27/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP19-78-008.

Applicants: Panhandle Eastern Pipe Line Company, LP.

Description: Compliance filing: Opinion No. 885 Compliance Filing-Docket Nos. RP19-78, RP19-1523, and RP19-257 to be effective N/A.

Filed Date: 2/14/23.

Accession Number: 20230214-5047.

Comment Date: 5 p.m. ET 2/27/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 14, 2023.
Debbie-Anne A. Reese,
Deputy Secretary.

[FR Doc. 2023-03550 Filed 2-17-23; 8:45 am]

BILLING CODE 6717-01-P